DEPARTMENT OF THE INTERIOR

Fish and Wildlife Service

Notice of Receipt of Applications for Permit; Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Henry Doorly Zoo, Omaha, NE, PRT-035467

The applicant requests a permit to export cryopreserved semen collected from one captive born male gorilla (Gorilla gorilla) to the Johannesburg Zoological Gardens, Parkview, South Africa for the purpose of enhancement of the survival of the species through captive propagation by artificial insemination.

Applicant: Rosita H. Roden, New York, NY, PRT—037356

The applicant requests a permit to import headdresses and other indigenous ceremonial products derived from wild Harpy eagle (Harpia harpyja) Razor-billed curassow (Mitu mitu), Jabiru (Jabiru mycteria), and Woolly spider monkey (Brachyteles arachnoides) from the Amazon Rainforest in Brazil. The purpose of the import is to enhance the survival of the species.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); Fax: (703/358-2281).

Dated: January 8, 2000.
Anna Barry,
Branch of Permits, Division of Management Authority.

[FR Doc. 01-1012 Filed 1-11-01; 8:45 am]

BILLING CODE 4310-55-P